DEPARTMENT OF COMMERCE

[I.D. 122304C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska License Limitation Program for Groundfish, Crab, and Scallops.

Form Number(s): None.

OMB Approval Number: 0648-0334.

Type of Request: Regular submission.

Burden Hours: 544.

Number of Respondents: 144.

Average Hours Per Response: One hour for application, and four hours for appeal.

Needs and Uses: The National Oceanic and Atmospheric Administration is seeking renewed Paperwork Reduction Act clearance for requirements currently cleared under OMB Number 0648-0334 (groundfish, crab, and scallops). This collection now supports License Limitation Permit transfer activities for crab, scallops, and groundfish, and any appeals resulting from denied actions. The information is submitted to respond to requirements set forth in regulations at 50 CFR part 679.4.

Affected Public: Business or other for-profit organizations; individuals or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: December 21, 2004.
Gwellnar Banks,
Management Analyst, Office of the Chief Information Officer.

[FR Doc. 04-28541 Filed 12-28-04; 8:45 am]

BILLING CODE 3510-22-S